COMMITTEE FOR THE IMPLEMENTATION OF TEXTILE AGREEMENTS

Denial of Commercial Availability Request under United States-Caribbean Basin Trade Partnership Act (CBTPA)

August 9, 2005.

AGENCY: Committee for the Implementation of Textile Agreements (CITA)

ACTION: Denial of the request alleging that certain 100 percent cotton, yarn dyed in the warp direction, seersucker fabrics cannot be supplied by the domestic industry in commercial quantities in a timely manner under the CBTPA.

SUMMARY: On June 7, 2005, the Chairman of CITA received a petition from Sandler, Travis & Rosenberg, P.A., on behalf of their client B*W*A of New York City, alleging that certain 100 percent cotton, yarn dyed in the warp direction, plain weave double warp beam seersucker fabrics, of detailed specifications, classified in subheadings 5208.42.30, 5208.42.40, 5208.42.50, and 5209.41.60 of the Harmonized Tariff Schedule of the United States (HTSUS), cannot be supplied by the domestic industry in commercial quantities in a timely manner. The petition requests that woven shirts, blouses, and sleepwear of such fabrics be eligible for preferential treatment under the CBTPA. CITA has determined that the subject fabrics can be supplied by the domestic industry in commercial quantities and in a timely manner and, therefore, denies the request.

FOR FURTHER INFORMATION CONTACT: Richard Stetson, International Trade Specialist, Office of Textiles and Apparel, U.S. Department of Commerce, (202) 482-3400.

SUPPLEMENTARY INFORMATION:

Authority: Section 211(a) of the CBTPA amending Section 213(b)(2)(A)(v)(II) of the Caribbean Basin Economic Recovery Act (CBERA); Section 6 of Executive Order No. 13191 of January 17, 2001; Presidential Proclamation7351 of October 2, 2000.

Background:

The CBTPA provides for quota- and duty-free treatment for qualifying textile and apparel products. Such treatment is generally limited to products manufactured from yarns and fabrics formed in the United States or a beneficiary country. The CBTPA also provides for quota- and duty-free treatment for apparel articles that are both cut (or knit-to-shape) and sewn or otherwise assembled in one or more beneficiary countries from fabric or yarn that is not formed in the United States, if it has been determined that such fabric or yarn cannot be supplied by the domestic industry in commercial quantities in a timely manner. In Executive Order No. 13191 (66 FR 7271), CITA has been delegated the authority to determine whether yarns or fabrics cannot be supplied by the domestic industry in commercial quantities in a timely manner under the CBTPA. On March 6, 2001, CITA published procedures that it will follow in considering requests (66 FR 13502).

On June 7, 2005, the Chairman of CITA received a petition from Sandler, Travis & Rosenberg, P.A., on behalf of their client B*W*A of New York City, alleging that certain 100 percent cotton, yarn dyed in the warp direction, plain weave double warp beam seersucker fabrics, of detailed specifications, classified in HTSUS subheadings 5208.42.30, 5208.42.40, 5208.42.50, and 5209.41.60, cannot be supplied by the domestic industry in commercial quantities in a timely manner. The petition requests that woven shirts, blouses, and sleepwear of such fabrics be eligible for referential treatment under the CBTPA.

On June 13, 2005, CITA published a notice in the Federal Register requesting public comments on the petition particularly with respect to whether these fabrics can be supplied by the domestic industry in commercial quantities in a timely manner. See Request for Public Comments on Commercial Availability Petition under the United States - Caribbean Basin Trade Partnership Act (CBTPA), 70 FR 34091 (June 13, 2005). On June 29, 2005, CITA and USTR offered to hold consultations with the House Ways and Means Committee and the Senate Finance Committee, but no consultations were requested. We also requested advice from the U.S. International Trade Commission and the relevant Industry Trade Advisory Committees.

Based on the information and advice received by CITA, public comments, and the report from the International Trade Commission, CITA found that there is domestic production, capacity, and ability to supply the subject fabrics in commercial quantities in a timely manner.

On the basis of currently available information and our review of this request, CITA has determined that the domestic industry can supply the subject fabrics in commercial quantities in a timely manner. The request from B*W*A is denied.

James C. Leonard III,
Chairman, Committee for the Implementation of Textile Agreements.

[FR Doc. E5-4387 Filed 8-11-05; 8:45 am]

BILLING CODE 3510-DS-S